DEPARTMENT OF COMMERCE

National Oceanic and Atmospheric Administration

[RTID 0648-XE760]

Pacific Fishery Management Council; Public Meeting

AGENCY: National Marine Fisheries Service (NMFS), National Oceanic and Atmospheric Administration (NOAA), Commerce.

ACTION: Notice of a public online meeting.

SUMMARY: The Pacific Fishery Management Council (Pacific Council) will provide a briefing on preliminary research and data needs to interested Pacific Council members, advisory body members, and the public.

DATES: The online briefing will be held Tuesday, April 1, 2025, from 1 p.m. until 2 p.m. (Pacific Standard Time) or until discussion is finished.

ADDRESSES: This meeting will be conducted online. Specific meeting information, including directions on how to join the meeting and system requirements, will be provided in the workshop announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@pcouncil.org.

SUPPLEMENTARY INFORMATION: The Pacific Council is scheduled to identify preliminary research and data need priorities during their April 2025 meeting, to address the Magnuson-Stevens Act requirement for Council's to develop and communicate multi-year research needs in order to support the management of U.S. west coast fisheries. The Pacific Council's Scientific and Statistical Committee recommendations on current research and data needs will be published in the advanced briefing book material prior to this briefing. The briefing presentation is aimed at a broad audience of Pacific Council members, advisory body members, and the public.

The Pacific Council and the Pacific Council's Scientific and Statistical Committee are scheduled to consider preliminary research and data need priorities at their April 2025 meeting in San Jose, CA.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: March 10, 2025.
Rey Israel Marquez,
Acting Deputy Director, Office of Sustainable Fisheries, National Marine Fisheries Service.

[FR Doc. 2025-04056 Filed 3-13-25; 8:45 am]

BILLING CODE 3510-22-P